DEPARTMENT OF TRANSPORTATION

National Highway Traffic Safety Administration

Denial of Motor Vehicle Defect Petition, DP02-008

AGENCY: National Highway Traffic Safety Administration (NHTSA), Department of Transportation.

ACTION: Denial of petition for a defect recall.

SUMMARY: This notice sets forth the reasons for the denial of a petition submitted to NHTSA under 49 U.S.C. 30162, requesting that the agency compel General Motors Corporation (GM) to recall model year (MY) 1999 Chevrolet Malibu vehicles to address an alleged safety-related defect. The petition is identified as DP02-008.

FOR FURTHER INFORMATION CONTACT: Mr. Jonathan White, Office of Defects Investigation (ODI), NHTSA, 400 Seventh Street, SW., Washington, DC 20590. Telephone: (202) 366-5226.

SUPPLEMENTARY INFORMATION: Mr. Robert N. Green of Alexandria, VA, submitted a petition to NHTSA by letter dated May 21, 2002, requesting NHTSA to compel GM to recall MY 1999 Chevrolet Malibu vehicles (subject vehicles). The petitioner alleges that the engine coolant in his MY 1999 Chevrolet Malibu boils over, the low coolant red warning light comes on, and the coolant system reservoir requires frequent refilling. He believes that the alleged defect causes safety problems.

GM has issued two Technical Service Bulletins (TSB) that may pertain to the alleged defect. TSB No. 99-06-02-009, issued in March 1999, concerns malfunction of the check valve in the coolant pressure cap in the subject vehicles, which may cause one or more of the following conditions: coolant leaks, the low coolant light to come on, overheating or no heat, odors coming from the air conditioning system, and no start. The TSB applies to MY 1999 Chevrolet Malibu and Cavalier, Oldsmobile Alero and Cutlass, Pontiac Grand AM and Sunfire, and Chevrolet and GMC Silverado and Sierra vehicles. The second TSB, No. 00-06-02-001, issued in January 2000, concerns a radiator filler neck that may have an imperfection in the sealing surface that may cause one or more of the following conditions: engine running hot, engine overheating, loss of coolant, and low coolant message. The TSB applies to all MY 1999-2000 passenger cars and trucks with a composite radiator end tank.

A review of ODI's database shows that there are nine consumer complaints related to the engine cooling system in the subject vehicles. Five complaints allege that coolant leaked from the engine's intake manifold gasket; two complaints allege that the engine overheated due to an unspecified coolant leak; one complaint alleges that there was a smell of engine coolant; and one complaint alleges an unspecified coolant problem. None of the complaints reported any coolant-related fire or injury. Furthermore, a similar review of consumer complaints about the other vehicles covered by the aforementioned TSBs also shows no reports of coolant-related fire or injury.

Based on our evaluation of the petition, the ODI complaints, and the TSBs, the cooling system defect alleged in the petition does not appear to be related to motor vehicle safety within the meaning of our statute.

In view of the foregoing, it is unlikely that NHTSA would issue an order for the notification and remedy of an alleged safety-related defect as defined by the petitioner in the subject vehicles at the conclusion of an investigation. Therefore, in view of the need to allocate and prioritize NHTSA's limited resources to best accomplish the agency's safety mission, the petition is denied.

Authority: 49 U.S.C. 30162(d); delegations of authority at CFR 1.50 and 501.8.

Issued on: September 24, 2002.
Kenneth N. Weinstein,
Associate Administrator for Enforcement.

[FR Doc. 02-24727 Filed 9-27-02; 8:45 am]

BILLING CODE 4910-59-P